DEPARTMENT OF DEFENSE

Office of the Department of the Air Force

Department of the Air Force Scientific Advisory Board; Notice of Federal Advisory Committee Meeting

AGENCY: Department of the Air Force Scientific Advisory Board, Department of the Air Force.

ACTION: Notice of Federal advisory committee meeting.

SUMMARY: The Department of Defense (DoD) is publishing this notice in accordance with chapter 10 of title 5, United States Code, to announce that the following meeting of the Department of the Air Force Scientific Advisory Board will take place.

DATES: Closed to the public. 25 June 2024 from 8:00AM-4:00p.m. Pacific Time and 26 June 2024 from 8:00a.m.-4:00p.m. Pacific Time.

ADDRESSES: The meeting will be held at the Aerospace Corporation Campus, 2310 E. El Segundo Blvd., El Segundo, CA 90245-4609.

FOR FURTHER INFORMATION CONTACT: Mr. Michael Scales, (202) 528-7266 (Voice), michael.scales.6@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of chapter 10 of title 5, United States Code (as enacted on Dec. 27, 2022, by section 3(a) of Public Law 117-286) (formerly the Federal Advisory Committee Act, 5 U.S.C., Appendix), section 552b of title 5, United States Code (popularly known as the Government in the Sunshine Act), and 41 CFR 102-3.140 and 102-3.150. Purpose of the Meeting: The purpose of this Department of the Air Force Scientific Advisory Board meeting is to provide dedicated time for members to engage with warfighter and defense industry partners and finalize and vote on the FY24 Air Force Research Laboratory Science & Technology Review's Integrated Outbrief.

Agenda: [All times are Pacific Time]

Tuesday, 25 June 2024:

0800-0820 Registration

0820-0830 Facility Logistics

0830-0900 Welcome Briefing

0900-0945 FY24 SAB Summer Board Welcome

0945-1000 AQB Update

1015-1115 FY24 S&T Review Outbrief & Vote #1

1115-1215 FY24 S&T Review Outbrief & Vote #2

1315-1415 FY24 S&T Review Outbrief & Vote #3

1415-1500 SAF/OS Brief

1500-1600 SSC Threat Brief

Wednesday, 26 June 2024:

0800-0900 USSF(S4S) Capability/Threat Brief

0900-0945 Tech Brief #1

1000-1045 Tech Brief #2

1045-1130 Tech Brief #3

1230-1315 Tech Brief #4

1315-1400 Tech Brief #5

1415-1500 Tech Brief #6

1500-1600 NRO Brief

In accordance with section 1009(d) of title 5, United States Code (formerly sec. 10(d) of the Federal Advisory Committee Act, 5 U.S.C. Appendix) and 41 CFR 102-3.155, the Administrative Assistant of the Air Force, in consultation with the Air Force General Counsel, has agreed that the public interest requires this meeting of the United States Department of the Air Force Scientific Advisory Board be closed to the public because it will involve discussions involving classified matters covered by section 552b(c)(1) of title 5, United States Code.

Written Statements: Any member of the public wishing to provide input to the United States Department of the Air Force Scientific Advisory Board should submit a written statement in accordance with 41 CFR 102-3.140(c), section 1009(a)(3) of title 5, United States Code (formerly sec. 10(a)(3) of the Federal Advisory Committee Act), and the procedures described in this paragraph. Written statements can be submitted to the Designated Federal Officer at the address detailed above at any time. The Designated Federal Officer will review all submissions with the Department of the Air Force Scientific Advisory Board Chairperson and ensure they are provided to members of the Department of the Air Force Scientific Advisory Board. Written statements received after the meeting that is the subject of this notice may not be considered by the Scientific Advisory Board until the next scheduled meeting.

Tommy W. Lee,
Acting Air Force Federal Register Liaison Officer.

[FR Doc. 2024-10883 Filed 5-16-24; 8:45 am]

BILLING CODE 3911-44-P